DEPARTMENT OF TRANSPORTATION

Federal Aviation Administration

14 CFR Part 39

[Docket No. FAA-2014-0425; Directorate Identifier 2013-NM-180-AD; Amendment 39-18024; AD 2014-23-08]

RIN 2120-AA64

Airworthiness Directives; Airbus Airplanes

AGENCY: Federal Aviation Administration (FAA), Department of Transportation (DOT).

ACTION: Final rule.

SUMMARY: We are superseding Airworthiness Directive (AD) 2012-06-19 for certain Airbus Model A330-201, -202, -203, -223, -243, -301, -302, -303, -321, -322, -323, -341, -342, and -343 airplanes; and Model A340-200 and -300 series airplanes. AD 2012-06-19 required repetitive inspections of the main fitting and sliding tube of the nose landing gear (NLG) for defects, damage, and cracks; and corrective actions if necessary. This new AD requires an inspection of the part number and serial number of the NLG main fitting and NLG sliding tube; for affected parts, this new AD requires a magnetic particle inspection (MPI) for cracks, and flap peening and replacement if necessary. This new AD also requires, for certain parts, additional inspections for damage and cracking. This new AD also adds airplanes to the applicability. This AD was prompted by reports of a cracked main fitting and sliding tube during NLG overhaul. We are issuing this AD to detect and correct cracks, defects, or damage of the main fitting or sliding tube, which could result in consequent NLG collapse.

DATES: This AD becomes effective December 31, 2014.

The Director of the Federal Register approved the incorporation by reference of certain publications listed in this AD as of December 31, 2014.

The Director of the Federal Register approved the incorporation by reference of certain other publications listed in this AD as of April 30, 2012 (77 FR 22188, April 13, 2012).

ADDRESSES: You may examine the AD docket on the Internet at http://www.regulations.gov/#!docketDetail;D=FAA-2014-0425; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2012-06-19, Amendment 39-17000 (77 FR 22188, April 13, 2012). AD 2012-06-19 applied to certain Airbus Model A330-201, -202, -203, -223, -243, -301, -302, -303, -321, -322, -323, -341, -342, and -343 airplanes; and Model A340-200 and -300 series airplanes. The NPRM published in the Federal Register on June 30, 2014 (79 FR 36666).

The European Aviation Safety Agency (EASA), which is the Technical Agent for the Member States of the European Community, has issued EASA Airworthiness Directive 2013-0179, dated August 7, 2013 (referred to after this as the Mandatory Continuing Airworthiness Information, or “the MCAI”), to correct an unsafe condition for all Airbus Model A330-201, -202, -203, -223, -223F, -243, -243F, -301, -302, -303, -321, -322, -323, -341, -342, and -343 airplanes; and Model A340-200 and -300 series airplanes. The MCAI states:

During the overhaul of two different Nose Landing Gear (NLG) units, cracks were found on the main fitting of one and the sliding tube of the other. Investigations concluded that the cracks initiated as a result of residual stress in the parts, following damage due to impact during towing incidents.

A subsequent review of the reported incidents identified a specific group of NLG main fittings and sliding tubes that may have sustained impact damage as a result of towing incidents.

This condition, if not detected and corrected could lead to NLG collapse.

To address this potential unsafe condition, EASA issued AD 2010-0034 [(http://ad.easa.europa.eu/blob/easa_ad_2010_0034_Corrected_superseded.pdf/AD_2010-0034_1) [which corresponds to FAA AD 2012-06-19, Amendment 39-17000 (77 FR 22188, April 13, 2012)] to require accomplishment of a one-time Magnetic Particles Inspection (MPI), followed by repetitive Detailed Visual Inspections (DVI) of the main fittings and sliding tubes of the affected NLG units identified by Part Number (P/N) and Serial Number (S/N) in the Applicability section of that AD and, depending on findings, accomplishment of applicable corrective actions.

Since that [EASA] AD was issued, it has been found necessary to address the issue at the level of NLG detail parts and no longer at NLG assembly level, as some detail parts have been transferred from an aeroplane to another. Airbus revised the applicable Service Bulletins (SB), which now list the affected NLG main fittings and sliding tubes.

For the reasons described above, this [EASA] AD retains [certain] requirements of EASA AD 2010-0034 which is superseded and requires [an inspection of the part number and serial number of the NLG main fitting and NLG sliding tube, and for affected parts,] a one-time MPI [for cracks], followed by repetitive DVI [for cracking, damage to paint, sealant, cadmium, and base metal] of the affected NLG main fittings and sliding tubes and, depending on inspection results, accomplishment of corrective actions [e.g., flap peening and replacing cracked parts]. This AD also extends the applicability to A330 freighters.

You may examine the MCAI in the AD docket on the Internet at http://www.regulations.gov/#!documentDetail;D=FAA-2014-0425-0002.

Clarification of Service Information References

We have clarified the service information references in this AD to identify the appendices.

Comments

We gave the public the opportunity to participate in developing this AD. The following presents the comment received on the NPRM (79 FR 36666, June 30, 2014) and the FAA's response to each comment.

Request to Reference Service Information Instead of Table

Air France requested that we revise paragraph (g) of the NPRM (79 FR 36666, June 30, 2014), to replace table 1 to paragraph (g) of the NPRM with references to Airbus Service Bulletin A330-32-3233, Revision 02, including Appendix 01, dated January 27, 2014; and Airbus Service Bulletin A340-32-4275, Revision 01, including Appendix 01, dated July 5, 2013. Air France asserted that the main reason for superseding AD 2012-06-19, Amendment 39-17000 (77 FR 22188, April 13, 2012), is to address the issue at the level of NLG detail parts and no longer at the NLG assembly level, as some detail parts have been transferred from one airplane to another.

We agree with the commenter that Airbus Service Bulletin A330-32-3233, Revision 02, including Appendix 01, dated January 27, 2014; and Airbus Service Bulletin A340-32-4275, Revision 01, including Appendix 01, dated July 5, 2013, contain the NLG detail parts (NLG main fitting and NLG sliding tube). However, paragraph (g) of this AD is a requirement that is retained from AD 2012-06-19, Amendment 39-17000 (77 FR 22188, April 13, 2012) and only restates the affected parts identified in that AD. Paragraphs (i) and (j) of this AD require inspecting for affected NLG main fittings and NLG sliding tubes identified in the service information and inspecting affected parts for cracks. Accomplishing the new requirements specified in paragraph (j) of this AD terminates the actions specified in paragraph (g) of this AD. Therefore, no changes were made to this AD in this regard.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH.

Conclusion

We reviewed the available data, including the comment received, and determined that air safety and the public interest require adopting this AD with the changes described previously and minor editorial changes. We have determined that these minor changes:

• Are consistent with the intent that was proposed in the NPRM (79 FR 36666, June 30, 2014) for correcting the unsafe condition; and

• Do not add any additional burden upon the public than was already proposed in the NPRM (79 FR 36666, June 30, 2014).

Costs of Compliance

We estimate that this AD affects 92 airplanes of U.S. registry.

The actions that were required by AD 2012-06-19, Amendment 39-17000 (77 FR 22188, April 13, 2012), that are retained in this AD take about 4 work-hours per product, at an average labor rate of $85 per work-hour. Required parts cost about $0 per product. Based on these figures, the estimated cost of the actions that were required by AD 2012-06-19 is $31,280 per product.

We also estimate that it will take about 10 work-hours per product to comply with the new basic requirements of this AD. The average labor rate is $85 per work-hour. Required parts will cost about $0 per product. Based on these figures, we estimate the cost of this AD on U.S. operators to be $78,200, or $850 per product.

In addition, we estimate that any necessary follow-on actions will take about 114 work-hours and require parts costing $435,000, for a cost of $444,690 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0425; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-06-19, Amendment 39-17000 (77 FR 22188, April 13, 2012), and adding the following new AD:

2014-23-08 Airbus: Amendment 39-18024. Docket No. FAA-2014-0425; Directorate Identifier 2013-NM-180-AD.

(a) Effective Date

This AD becomes effective December 31, 2014.

(b) Affected ADs

This AD replaces AD 2012-06-19, Amendment 39-17000 (77 FR 22188, April 13, 2012).

(c) Applicability

This AD applies to Airbus Model A330-201, -202, -203, -223, -223F, -243, -243F, -301, -302, -303, -321, -322, -323, -341, -342, and -343 airplanes; and Model A340-211, -212, -213, -311, -312, and -313 airplanes; certificated in any category; all manufacturer serial numbers.

(d) Subject

Air Transport Association (ATA) of America Code 32, Landing Gear.

(e) Reason

This AD was prompted by reports of a cracked nose landing gear (NLG) main fitting and sliding tube during NLG overhaul. We are issuing this AD to detect and correct cracks, defects, or damage of the main fitting or sliding tube, which could result in consequent NLG collapse.

(f) Compliance

Comply with this AD within the compliance times specified, unless already done.

(g) Retained Detailed Inspection and Corrective Actions

This paragraph restates the requirements of paragraph (g) of AD 2012-06-19, Amendment 39-17000 (77 FR 22188, April 13, 2012), with revised service information. For Model A330-201, -202, -203, -223, -243, -301, -302, -303, -321, -322, -323, -341, -342, and -343 airplanes; and Model A340-211, -212, -213, -311, -312, and -313 airplanes; if fitted with the NLG identified in table 1 to paragraph (g) of this AD: Within 900 flight hours after April 30, 2012 (the effective date of AD 2012-06-19), do a detailed inspection of the NLG main fitting and sliding tube for any cracks, defects, and damage of the paint or surface protection, including paint removal and cracking of the surface treatment. Before further flight after doing the detailed inspection of the NLG, remove the labels, paint, surface protection coatings, and cadmium from the NLG main fitting; do a detailed inspection for any damage to the surface that will impair the magnetic particle inspection (MPI); and, if any defects are found, before further flight, remove any defects by polishing. Do all actions specified in this paragraph in accordance with the Accomplishment Instructions of the applicable service information specified in paragraph (g)(1) or (g)(2) of this AD.

(1) For Model A330 airplanes: Airbus Mandatory Service Bulletin A330-32-3233, dated October 22, 2009; or Airbus Service Bulletin A330-32-3233, Revision 02, including Appendix 01, dated January 27, 2014.

(2) For Model A340 airplanes: Airbus Mandatory Service Bulletin A340-32-4275, dated October 22, 2009; or Airbus Service Bulletin A340-32-4275, Revision 01, including Appendix 01, dated July 5, 2013.

Table 1 to Paragraph (g) of This AD—Applicable NLG and Serial Numbers
Part No. | Serial No.
D23285200 | B2
D23285101-7 | B58
D23285101-10 | B75
D23581100-1 | B124
D23581100-1 | B159
D23581100-7 | B386
D23581100-7 | B398
D23581100-7 | B400
D23581100-7 | B403

(h) Retained Magnetic Particle Inspection

This paragraph restates the requirements of paragraph (h) of AD 2012-06-19, Amendment 39-17000 (77 FR 22188, April 13, 2012), with revised service information. Before further flight after doing the actions required in paragraph (g) of this AD: Do an MPI for cracking of the NLG main fitting and sliding tube, in accordance with the Accomplishment Instructions of the applicable service information specified in paragraph (g)(1) or (g)(2) of this AD.

(1) If no crack is detected during the MPI required by the introductory text of paragraph (h) of this AD: Before further flight, flap peen the inspected area where the paint and cadmium has been removed, and replace the protective coatings, in accordance with the Accomplishment Instructions of the applicable service information specified in paragraph (g)(1) or (g)(2) of this AD.

(2) If any crack is detected during the MPI required by the introductory text of paragraph (h) of this AD: Before further flight, replace the damaged part with a new or serviceable part, in accordance with the Accomplishment Instructions of the applicable service information specified in paragraph (g)(1) or (g)(2) of this AD.

(i) New Identification of Part and Serial Numbers

Within 1,000 flight hours after the effective date of this AD, identify the part number and serial number of the NLG main fitting and NLG sliding tube, in accordance with the Accomplishment Instructions of Airbus Service Bulletin A330-32-3233, Revision 02, including Appendix 01, dated January 27, 2014; or Airbus Service Bulletin A340-32-4275, Revision 01, including Appendix 01, dated July 5, 2013; as applicable. A review of airplane maintenance records is acceptable in lieu of this identification if the part number and the serial number of the NLG main fitting and NLG sliding tube can be conclusively determined from that review.

(j) New Magnetic Particle Inspection

If, during the identification required by paragraph (i) of this AD, it is determined any NLG main fitting or NLG sliding tube is installed and the fitting or tube has a part number and serial number listed in Airbus Service Bulletin A330-32-3233, Revision 02, including Appendix 01, dated January 27, 2014; or Airbus Service Bulletin A340-32-4275, Revision 01, including Appendix 01, dated July 5, 2013; as applicable: Within 1,000 flight hours after the effective date of this AD, do an MPI for cracks of the affected parts, in accordance with the Accomplishment Instructions of Airbus Service Bulletin A330-32-3233, Revision 02, including Appendix 01, dated January 27, 2014; or Airbus Service Bulletin A340-32-4275, Revision 01, including Appendix 01, dated July 5, 2013; as applicable. Accomplishing the MPI required by this paragraph terminates the inspections required by paragraphs (g) and (h) of this AD.

(1) If any crack is detected during the MPI required by the introductory text of paragraph (j) of this AD: Before further flight, replace any cracked part (NLG main fitting and NLG sliding tube) with a serviceable part, in accordance with the Accomplishment Instructions of Airbus Service Bulletin A330-32-3233, Revision 02, including Appendix 01, dated January 27, 2014; or Airbus Service Bulletin A340-32-4275, Revision 01, including Appendix 01, dated July 5, 2013; as applicable.

(2) If no crack is detected during the MPI required by the introductory text of paragraph (j) of this AD: Before further flight, do a flap peening to introduce compressive residual stress and corrosion protection, in accordance with the Accomplishment Instructions of Airbus Service Bulletin A330-32-3233, Revision 02, including Appendix 01, dated January 27, 2014; or Airbus Service Bulletin A340-32-4275, Revision 01, including Appendix 01, dated July 5, 2013; as applicable.

(k) New Detailed Inspection

Within 900 flight hours after doing the flap peening required by paragraph (j)(2) of this AD, do a detailed inspection for damage to paint, damage to the sealant around the labels, damage to the cadmium or base metal, and for cracking of the affected parts, in accordance with the Accomplishment Instructions of Airbus Service Bulletin A330-32-3233, Revision 02, including Appendix 01, dated January 27, 2014; or Airbus Service Bulletin A340-32-4275, Revision 01, including Appendix 01, dated July 5, 2013; as applicable. Repeat the inspection thereafter at intervals not to exceed 900 flight hours.

(1) If any damage to the paint, damage to the sealant around the labels, or damage to the cadmium or base metal, is detected during any detailed inspection required by the introductory text of paragraph (k) of this AD; Before further flight, do an MPI for cracking of the affected parts, in accordance with the Accomplishment Instructions of Airbus Service Bulletin A330-32-3233, Revision 02, including Appendix 01, dated January 27, 2014; or Airbus Service Bulletin A340-32-4275, Revision 01, including Appendix 01, dated July 5, 2013; as applicable.

(2) If any cracking is detected during any inspection required by the introductory text of paragraph (k) or paragraph (k)(1) of this AD: Before further flight, replace any cracked part with a serviceable part, in accordance with the Accomplishment Instructions of Airbus Service Bulletin A330-32-3233, Revision 02, including Appendix 01, dated January 27, 2014; or Airbus Service Bulletin A340-32-4275, Revision 01, including Appendix 01, dated July 5, 2013; as applicable.

(l) Terminating Action

Replacement of a part as required by paragraph (j)(1) or (k)(2) of this AD is terminating action for the repetitive detailed inspections required by paragraph (k) of this AD for that part, provided that the part number and serial number of the replacement part is not listed in Airbus Service Bulletin A330-32-3233, Revision 02, including Appendix 01, dated January 27, 2014; or Airbus Service Bulletin A340-32-4275, Revision 01, including Appendix 01, dated July 5, 2013; as applicable.

(m) Parts Installation Limitation

As of the effective date of this AD, installation of an NLG main fitting or NLG sliding tube having a part number and serial number listed in Airbus Service Bulletin A330-32-3233, Revision 02, including Appendix 01, dated January 27, 2014; or Airbus Service Bulletin A340-32-4275, Revision 01, including Appendix 01, dated July 5, 2013; as applicable; is allowed, provided that the NLG main fitting and NLG sliding tube have not accumulated more than 900 flight hours since the most recent inspection accomplished in accordance with the Accomplishment Instructions of Airbus Service Bulletin A330-32-3233, Revision 02, including Appendix 01, dated January 27, 2014; or Airbus Service Bulletin A340-32-4275, Revision 01, including Appendix 01, dated July 5, 2013; as applicable.

(n) Credit for Previous Actions

This paragraph provides credit for inspections required by paragraphs (j) and (k) of this AD and the flap peening required by paragraph (j)(2) of this AD, if those actions were performed before the effective date of this AD using the applicable service information specified in paragraph (n)(1), (n)(2), or (n)(3) of this AD.

(1) Airbus Service Bulletin A330-32-3233, dated October 22, 2009.

(2) Airbus Service Bulletin A330-32-3233, Revision 01, dated July 5, 2013. This document is not incorporated by reference in this AD.

(3) Airbus Service Bulletin A340-32-4275, dated October 22, 2009.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(p) Related Information

(1) Refer to Mandatory Continuing Airworthiness Information (MCAI) European Aviation Safety Agency Airworthiness Directive 2013-0179, dated August 7, 2013, for related information. You may examine the MCAI in the AD docket on the Internet at http://www.regulations.gov/#!documentDetail;D=FAA-2014-0425-0002.

(2) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 31, 2014.

(i) Airbus Service Bulletin A330-32-3233, Revision 02, including Appendix 01, dated January 27, 2014.

(ii) Airbus Service Bulletin A340-32-4275, Revision 01, including Appendix 01, dated July 5, 2013.

(4) The following service information was approved for IBR on April 30, 2012, (77 FR 22188, April 13, 2012).

(i) Airbus Service Bulletin A330-32-3233, dated October 22, 2009.

(ii) Airbus Service Bulletin A340-32-4275, dated October 22, 2009.

(5) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 5, 2014.
Jeffrey E. Duven,
Manager, Transport Airplane Directorate, Aircraft Certification Service.

[FR Doc. 2014-27360 Filed 11-25-14; 8:45 am]

BILLING CODE 4910-13-P